DEPARTMENT OF EDUCATION

[Docket No.: ED-2020-SCC-0099]

Agency Information Collection Activities; Submission to the Office of Management and Budget for Review and Approval; Comment Request; State Lead Agency Record Keeping and Reporting Requirements Under Part C of the Individuals With Disabilities Education Act

AGENCY: Office of Special Education and Rehabilitative Services, Department of Education (ED).

ACTION: Notice.

SUMMARY: In accordance with the Paperwork Reduction Act of 1995, ED is proposing an extension of an existing information collection.

DATES: Interested persons are invited to submit comments on or before October 13, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Amy Bae, (202) 245-8272.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: State Lead Agency Record Keeping and Reporting Requirements under Part C of the Individuals with Disabilities Education Act.

OMB Control Number: 1820-0682.

Type of Review: An Extension of an Existing Information Collection.

Respondents/Affected Public: State, Local, and Tribal Governments.

Total Estimated Number of Annual Responses: 56.

Total Estimated Number of Annual Burden Hours: 4,268.

Abstract: This collection has been created to reflect the requirements under Part C of IDEA and the Part C regulations that require State lead agencies (LAs) to collect and maintain information or data and, in some cases, report information or data to other public agencies or to the public. However, such information or data are not required to be reported to the Secretary. These required collections are consolidated into 1820-0682.

Dated: September 8, 2020.
Kate Mullan,
PRA Coordinator, Strategic Collections and Clearance, Governance and Strategy Division, Office of Chief Data Officer, Office of Planning, Evaluation and Policy Development.

[FR Doc. 2020-20056 Filed 9-10-20; 8:45 am]

BILLING CODE 4000-01-P